DEPARTMENT OF LABOR

Office of the Secretary

Submission for OMB Review: Comment Request

December 15, 2006.

The Department of Labor (DOL) has submitted the following public information collection requests (ICR) to the Office of Management and Budget (OMB) for review and approval in accordance with the Paperwork Reduction Act of 1995 (Pub. L. 104-13, 44 U.S.C. chapter 35). A copy of each ICR, with applicable supporting documentation, may be obtained from RegInfo.gov at http://www.reginfo.gov/public/do/PRAMain or by contacting Darrin King on 202-693-4129 (this is not a toll-free number)/e-mail: king.darrin@dol.gov.

Comments should be sent to Office of Information and Regulatory Affairs, Attn: OMB Desk Officer for the Occupational Safety and Health Administration (OSHA), Office of Management and Budget, Room 10235, Washington, DC 20503, Telephone: 202-395-7316/Fax: 202-395-6974 (these are not toll-free numbers), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Occupational Safety and Health Administration.

Type of Review: Extension without change of currently approved collection.

Title: Ethylene Oxide (EtO) (29 CFR 1910.1047).

OMB Number: 1218-0108.

Type of Response: Recordkeeping and Third Party disclosure.

Affected Public: Business or other for-profits.

Number of Respondents: 5,474.

Number of Annual Responses: 209,328.

Estimated Time per Response: Varies by task.

Total Burden Hours: 42,732.

Total Annualized capital/startup costs: $0.

Total Annual Costs (operating/maintaining systems or purchasing services): $6,369,781.

Description: The standard requires employers to monitor employee exposure to EtO, to provide medical surveillance, to train employees about the hazards of EtO, and to establish and maintain accurate records of employee exposure to EtO. These records will be used by employers, employees, physicians, and the Government to ensure that employees are not harmed by exposure to EtO.

Agency: Occupational Safety and Health Administration.

Type of Review: New collection (request for a new OMB control number).

Title: OSHA's Conflict of Interest and Disclosure Form.

OMB Number: 1218-0NEW.

Type of Response: Reporting.

Affected Public: Individuals or Households.

Number of Respondents: 36.

Number of Annual Responses: 36.

Estimated Time per Response: Varies from 30 minutes to 1 hour.

Total Burden Hours: 27.

Total Annualized capital/startup costs: $0.

Total Annual Costs (operating/maintaining systems or purchasing services): $0.

Description: The Office of Management and Budget (OMB) published the Final Information Quality Bulletin for Peer Review on December 15, 2004. The Bulletin established that important scientific information shall be peer reviewed by qualified specialists before it is disseminated by the Federal Government. Peer review is one of the important procedures used to ensure that the quality of published information meets the standards of the scientific and technical community. It is a form of deliberation involving an exchange of judgments about the appropriateness of methods and the strength of the author's inferences. Peer review involves the review of a draft product for quality by specialists in the field who were not involved in producing the draft. The selection of participants in a peer review is based on expertise, with due consideration of independence and conflict of interest. The Bulletin states “* * * the agency must address reviewers’ potential conflicts of interest (including those stemming from ties to regulated businesses and other stakeholders) and independence from the agency. The Conflict of Interest and Disclosure form will be used to determine whether or not a conflict of interest exists for a potential peer review panel member.

Darrin A. King,
Acting Departmental Clearance Officer.

[FR Doc. E6-21798 Filed 12-20-06; 8:45 am]

BILLING CODE 4510-26-P